FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 010051-038.

Title: Mediterranean Space Charter Agreement.

Parties: Hapag-Lloyd USA LLC; A.P. Moller-Maersk A/S; Mediterranean Shipping Company, S.A.; Hapag-Lloyd AG; and Zim Integrated Shipping Services, Ltd.

Filing Party: Wayne R. Rohde, Esq.; Sher & Blackwell LLP; 1850 M Street, NW.; Suite 900; Washington, DC 20036.

Synopsis: The amendment updates CP Ships (USA) LLC's corporate name to Hapag-Lloyd USA LLC.

Agreement No.: 011733-018.

Title: Common Ocean Carrier Platform Agreement.

Parties: A.P. Moller-Maersk A/S; CMA CGM; Hamburg-Süd; Hapag-Lloyd AG; Mediterranean Shipping Company S.A.; and United Arab Shipping Company (S.A.G.) as shareholder parties, and Alianca Navegacao e Logistica Ltda.; Kawasaki Kisen Kaisha Ltd.; MISC Berhad; Mitsui O.S.K. lines Ltd.; Nippon Yusen Kaisha; Safmarine Container Lines N.V.; Senator Lines GmbH; and Tasman Orient Line C.V. as non-shareholder parties.

Filing Party: Wayne R. Rohde, Esq.; Sher & Blackwell LLP; 1850 M Street, NW.; Suite 900; Washington, DC 20036.

Synopsis: The amendment deletes CP Ships Limited; CP Ships (USA) LLC; FESCO Ocean Management Ltd.; and P&O Nedlloyd Limited as parties to the agreement and changes Hapag-Lloyd's name.

Agreement No.: 201174.

Title: Port of Kalama/ConAgra Foods, Inc./Kalama Export Company LLC/Kalama Grain Terminal, Inc. Agreement.

Parties: Port of Kalama; ConAgra Foods, Inc.; Kalama Export Company LLC; and Kalama Grain Terminal, Inc.

Filing Party: Dennis A. Ostgard, Esq.; Schwabe, Williamson & Wyatt; 1420 5th Avenue; Suite 3010; Seattle, WA 98101.

Synopsis: The agreement would provide for termination of the Port of Kalama's tariff applicable to terminal facilities owned and/or operated by the other parties and payment to the Port of Kalama in lieu of dockage to be calculated and determined from time to time.

Dated: January 4, 2007.
By Order of the Federal Maritime Commission.
Bryant L. VanBrakle,
Secretary.

[FR Doc. E7-103 Filed 1-8-07; 8:45 am]

BILLING CODE 6730-01-P